DEPARTMENT OF THE INTERIOR

Fish and Wildlife Service

50 CFR Part 17

RIN 1018-AG27

Endangered and Threatened Wildlife and Plants; Notice of Availability of Draft Economic Analysis for Proposed Critical Habitat Determination for the Morro Shoulderband Snail

AGENCY: Fish and Wildlife Service, Interior.

ACTION: Notice of availability of draft economic analysis.

SUMMARY: The U.S. Fish and Wildlife Service (Service) announces the availability of a draft economic analysis for the proposed designation of critical habitat for the Morro shoulderband snail (Helminthoglypta walkeriana). We are opening the comment period to allow all interested parties to submit written comments on the draft economic analysis. Comments will be incorporated into the public record as a part of this comment period and will be fully considered in the final rule.

DATES: The comment period is opened and we will accept comments until December 6, 2000. Comments must be received by 5:00 p.m. on the closing date. Any comments that are received after the closing date may not be considered in the final decision on this proposal.

ADDRESSES: All written comments should be sent to the Field Supervisor at the above address. You may also send comments by electronic mail (e-mail) to “fw1morrosnail@r1.fws.gov.” Please submit electronic comments in ASCII file format and avoid the use of special characters and encryption. Please include “Attn: RIN 1018-AG27” and your name and return address in your e-mail message. If you do not receive a confirmation from the system that we have received your e-mail message, contact us directly by calling our Ventura Fish and Wildlife Office at phone number 805-644-1766. Comments and materials received will be available for public inspection, by appointment, during normal business hours at the above Service address. Copies of the draft economic analysis are available on the Internet at “www.r1.fws.gov” or by writing to the Field Supervisor, U.S. Fish and Wildlife Service, Ventura Fish and Wildlife Office, 2493 Portola Road, Suite B, Ventura, California 93003.

FOR FURTHER INFORMATION CONTACT: Field Supervisor, Ventura Fish and Wildlife Office, at the above address (telephone 805-644-1766; facsimile 805-644-3958).

SUPPLEMENTARY INFORMATION:

Background

The Morro shoulderband snail was first described as Helix walkeriana by Hemphill based on collection made “near Morro, California.” He also described a subspecies, based on sculptural features of the shell, Helix walkeriana, Helix var. morroensis, that was collected “near San Luis Obispo City.” The Morro shoulderband snail is also commonly known as the banded dune snail and belongs to the Class Gastropoda and Family Helminthoglyptidae.

The shell of the Morro shoulderband snail has 5-6 whorls. Its dimensions are 18 to 29 millimeters (mm) (0.7 to 1.1 inches (in.)) in diameter and 14 to 25 mm (0.6 to 1.0 in.) in height. The Morro shoulderband snail can be distinguished from the Big Sur shoulderband snail (Helminthoglypta umbilicata), another native snail in the same area, by its more globose (globe shaped) shell and presence of incised (deeply cut) spiral grooves. The shell of the Big Sur shoulderband snail tends to be flatter and shiner. The brown garden snail (Helix aspersa) also occurs in Los Osos with the Morro shoulderband snail and has a marbled pattern on its shell, whereas the Morro shoulderband snail has one narrow dark brown spiral band on the shoulder. The Morro shoulderband's spire is low-domed, and half or more of the umbilicus (the cavity in the center of the base of a spiral shell that is surrounded by the whorls) is covered by the apertural (small opening) lip.

The Morro shoulderband snail is found only in western San Luis Obispo County. At the time of its addition to the List of Endangered and Threatened Wildlife on December 15, 1994 (59 FR 64613), the Morro shoulderband snail was known to be distributed near Morro Bay. Its currently known range includes areas south of Morro Bay, west of Los Osos Creek, and north of Hazard Canyon. Historically, the species has also been reported near the city of San Luis Obispo (type locality for “morroensis”) and south of Cayucos.

The Morro shoulderband snail occurs in coastal dune and scrub communities and maritime chaparral. Through most of its range, the dominant shrub associated with the snail's habitat is mock heather (Ericameria reicoides). Other prominent shrub and succulent species are buckwheat (Eriogonum parvifolium), eriastrum (Eriastrum densifolium), chamisso lupine (Lupinus chamissonis), dudleya (Dudleya sp.) and in more inland locations, California sagebrush (Artemisia californica) and black sage (Salvia mellifera).

Away from the immediate coast, immature scrub in earlier successional stages may offer more favorable shelter sites than mature stands of coastal dune scrub. The immature shrubs provide canopy shelter for the snail, whereas the lower limbs of larger older shrubs may be too far off the ground to offer good shelter. In addition, mature stands produce twiggy litter that is low in food value. The Morro shoulderband snail is not a garden pest and is essentially harmless to gardens.

The Morro shoulderband snail is threatened by destruction of its habitat due to increasing development and by degradation of its habitat due to invasion of nonnative plant species (e.g., veldt grass (Ehrharta calycino)), structural changes to its habitat due to maturing of dune vegetation, and recreational use (e.g., heavy off-highway vehicle activity). In addition to the known threats, possible threats to the snail include competition for resources with the nonnative brown garden snail (although no assessment has been made of possible dietary overlap between the species); the isolated nature of the remaining populations; the use of pesticides (including snail and slug baits); and the introduction of nonnative predatory snails.

Pursuant to the Endangered Species Act of 1973, as amended (Act), the species was federally listed as endangered on December 15, 1994 (59 FR 64613). On July 12, 2000, we published in the Federal Register (65 FR 42962) a determination proposing critical habitat for the Morro shoulderband snail. Approximately 1,040 hectares (2,565 acres) fall within the boundaries of the proposed critical habitat designation. Proposed critical habitat is located in the community of Los Osos, San Luis Obispo County, California, as described in the proposed determination.

Section 4(b)(2) of the Act requires that the Secretary shall designate or revise critical habitat based upon the best scientific and commercial data available and after taking into consideration the economic impact of specifying any particular area as critical habitat. Based upon the previously published proposal to designate critical habitat for the Morro shoulderband snail and comments received during the previous comment period, we have prepared a draft economic analysis of the proposed critical habitat designation. The draft economic analysis is available at the above Internet and mailing address. We will accept written comments during this reopened comment period. The current comment period on this proposal closes on December 6, 2000. Written comments may be submitted to the Ventura Fish and Wildlife Office in the ADDRESSES section.

Author

The primary author of this notice is Ron Popowski, U.S. Fish and Wildlife Service, 2493 Portola Road, Suite B, Ventura, California 93003 (see ADDRESSES section).

Authority: The authority for this action is the Endangered Species Act of 1973 (16 U.S.C. 1531 et seq.).

Dated: November 15, 2000.
Cynthia U. Barry,
Acting Manager, California/Nevada Operations Office.

[FR Doc. 00-29721 Filed 11-20-00; 8:45 am]

BILLING CODE 4310-55-P